DEPARTMENT OF COMMERCE

Patent and Trademark Office

Submission for OMB Review; Comment Request; “Patent Cooperation Treaty”

The United States Patent and Trademark Office (USPTO) will submit to the Office of Management and Budget (OMB) for clearance the following proposal for collection of information under the provisions of the Paperwork Reduction Act of 1995.

Agency: United States Patent and Trademark Office, Commerce.

Title: Patent Cooperation Treaty.

OMB Control Number: 0651-0021.

Form Number(s):

• PTO-1382

• PTO-1390

• PTO/IB/372

• PTO/IPEA/401

• PTO/RO/101

• PTO/RO/134

• PTO/SB/64/PCT

Type of Request: Regular.

Number of Respondents: 431,135.

Average Hours per Response: The USPTO estimates that it will take the public between 15 minutes (0.25 hours) and 4 hours to gather the necessary information, prepare the appropriate form or document, and submit the information to the USPTO.

Burden Hours: 352,769.78.

Cost Burden: $302,074,235.50.

Needs and Uses: The information requested in this collection is necessary for respondents to file an international patent application and for the USPTO to process, search, and examine international applications and related correspondence under the PCT. If this information were not collected, the USPTO would not be able to fulfill its obligations under the PCT as an RO, ISA, or IPEA. The IB also uses this information to administer international applications as required by the PCT.

Some of the information in this collection has associated forms as indicated in Table 2 below. Use of the forms is not mandatory, but the USPTO advises applications to use these forms to ensure that all of the necessary information is provided and to assist the USPTO in processing the international applications quickly and efficiently. The Request and Demand forms include Annexes (Fee Calculation Sheets) and Notes with instructions on completing these forms. The WIPO also furnishes the PCT Applicant's Guide and other documents to give the public additional guidance on preparing the international applications.

Frequency: On occasion.

Respondent's Obligation: Required to Obtain or Maintain Benefits.

OMB Desk Officer: Nicholas A. Fraser, email: Nicholas_A._Fraser@omb.eop.gov.

Once submitted, the request will be publicly available in public format through www.reginfo.gov. Follow the instructions to view Department of Commerce collections currently under review by OMB.

Further information can be obtained by:

• Email: InformationCollection@uspto.gov. Include “0651-0021 information request” in the subject line of the message.

• Mail: Marcie Lovett, Records and Information Governance Branch Chief, Office of the Chief Administrative Officer, United States Patent and Trademark Office, P.O. Box 1450, Alexandria, VA 22313-1450.

Written comments and recommendations for the proposed information collection should be sent on or before September 25, 2019 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2019-18276 Filed 8-23-19; 8:45 am]

BILLING CODE 3510-16-P